DEPARTMENT OF DEFENSE

Department of the Army

Committee Meeting Notice

AGENCY: United States Army School of the Americas (USARSA), Training and Doctrine Command (TRADOC), U.S. Army, DoD.

ACTION: Notice of meeting.

SUMMARY: In accordance with section 10(a)(2) of the Federal Advisory Committee Act (P.L. 92-463), announcement is made of the following committee meeting:

Name of Committee: USARSA Subcommittee of the Army Education Advisory Committee.

Dates of Meeting: 14-15 December 2000.

Place of Meeting: USARSA, Building 35, Fort Benning, Georgia.

Time of Meeting: 0830-1630, 14 December and 0830-1000, 15 December 2000.

FOR FURTHER INFORMATION CONTACT: All communications regarding this subcommittee should be addressed to LTC Bruce T. Gridley, U.S. Army School of the Americas, ATTN: ATZB-SAZ-CS, Ft. Benning, Georgia 31905-6245.

SUPPLEMENTARY INFORMATION: Proposed Agenda: Presentation by the Commanding General, TRADOC, DUSA-IA, USSOUTHCOM and USARSA's transformation.

1. Purpose of Meeting: This is the eighth USARSA Subcommittee meeting. The Subcommittee will receive a report from the Commander, TRADOC, and discuss the transformation of USARSA.

2. Meeting of the Advisory Committee is open to the public. Due to space limitations, attendance may be limited to those persons who have notified the Committee Management Office in writing at least 5 days prior to the meeting date of their intent to attend.

3. Any member of the public may file a written statement with the committee before, during, or after the meeting. To the extent that time permits, the subcommittee chairman may allow public presentations of oral statements at the meeting.

Gregory D. Showalter,
Army Federal Register Liaison Officer.

[FR Doc. 00-29759 Filed 11-20-00; 8:45 am]

BILLING CODE 3710-08-M